DEPARTMENT OF TRANSPORTATION

Federal Aviation Administration

14 CFR Part 39

[Docket No. FAA-2010-0640; Directorate Identifier 2009-NM-142-AD]

RIN 2120-AA64

Airworthiness Directives; EADS CASA (Type Certificate Previously Held by Construcciones Aeronauticas, S.A.) Model CN-235, CN-235-100, CN-235-200, and CN-235-300 Airplanes, and Model C-295 Airplanes

AGENCY: Federal Aviation Administration (FAA), DOT.

ACTION: Notice of Proposed Rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

Prompted by [an] accident * * * the FAA published SFAR 88 (Special Federal Aviation Regulation 88) * * *.

* * * * *

Fuel Airworthiness Limitations arising from the required systems safety analysis are items that have been shown to have failure mode(s) associated with an `unsafe condition' * * *. These are identified in Failure Conditions for which an unacceptable probability of ignition risk could exist if specific tasks and/or practices are not performed in accordance with the corrective actions(s) developed by the TC [type certificate] holder.

The proposed AD would require actions that are intended to address the unsafe condition described in the MCAI.

DATES: We must receive comments on this proposed AD by August 13, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact EADS-CASA, Military Transport Aircraft Division (MTAD), Integrated Customer Services (ICS), Technical Services, Avenida de Aragón 404, 28022 Madrid, Spain; telephone +34 91 585 55 84; fax +34 91 585 55 05; e-mail MTA.TechnicalService@casa.eads.net; Internet http://www.eads.net. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Shahram Daneshmandi, Aerospace Engineer, International Branch, ANM-116, Transport Airplane Directorate, FAA, 1601 Lind Avenue, SW., Renton, Washington 98057-3356; telephone (425) 227-1112; fax (425) 227-1149.

SUPPLEMENTARY INFORMATION:

Comments Invited

We invite you to send any written relevant data, views, or arguments about this proposed AD. Send your comments to an address listed under the ADDRESSES section. Include “Docket No. FAA-2010-0640; Directorate Identifier 2009-NM-142-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

On April 24, 2008, we issued AD 2008-09-22, Amendment 39-15503 (73 FR 23939, May 1, 2008). That AD required actions intended to address an unsafe condition on the products listed above.

Since we issued AD 2008-09-22, the fuel airworthiness limitations have been revised. The European Aviation Safety Agency (EASA), which is the Technical Agent for the Member States of the European Community, has issued EASA Airworthiness Directive 2009-0146, dated July 3, 2009 (referred to after this as “the MCAI”), to correct an unsafe condition for the specified products. The MCAI states:

Prompted by [an] accident * * *, the FAA published SFAR 88 (Special Federal Aviation Regulation 88). Subsequently, the Joint Aviation Authorities (JAA) recommended the application of a similar regulation to the National Aviation Authorities (NAA) of its member countries.

Under this regulation, all holders of type certificates for passenger transport aeroplanes with either a passenger capacity of 30 or more, or a payload capacity of 3 402 kg (7 500 lbs) or more, which have received their certification since 01 January 1958, are required to conduct a design review against explosion risks.

In August 2005, EASA published a policy statement on the process for developing instructions for maintenance and inspection of Fuel Tank System ignition source prevention (EASA D 2005/CPRO), that also included the EASA expectations with regard to compliance times of the corrective actions on the unsafe and the not unsafe part of the harmonised design review results.

Fuel Airworthiness Limitations arising from the required systems safety analysis are items that have been shown to have failure mode(s) associated with an `unsafe condition' as defined in the FAA memo 2003-112-15 `SFAR 88—Mandatory Action Decision Criteria'. These are identified in Failure Conditions for which an unacceptable probability of ignition risk could exist if specific tasks and/or practices are not performed in accordance with the corrective action(s) developed by the TC [type certificate] holder.

To address these potential unsafe conditions, EASA issued AD 2007-0007, mandating the Fuel System Airworthiness Limitations, comprising maintenance and inspection tasks and Critical Design Configuration Control Limitations (CDCCL) that were, at that moment, defined in issue C of EADS-CASA document DT-0-C00-05001. That document has now been revised and updated to issue D.

For the reasons described above, this EASA AD retains the requirements of AD 2007-0007, which is superseded [and corresponds to FAA AD 2008-09-22], and requires the implementation of the revised Fuel Airworthiness Limitations contained in issue D of EADS-CASA document DT-0-C00-05001 and accomplishment of related modifications.

The required actions are retaining the limitations for fuel tank systems, adding thermal insulation to the air conditional compression system, applying double bonding connection on fuel tubes, and modifying the separation between the center wing electrical harness and fuel tubes. The application of double bonding connections on fuel tubes includes doing general visual inspections for damage of the inside of the fuel tanks, and corrective actions if necessary. The corrective actions include contacting EADS CASA for repair instructions and doing the repair. You may obtain further information by examining the MCAI in the AD docket.

We have changed Table 1 of this AD to fix a typographical error, which is specified in EADS CASA Component Maintenance Manual with Illustrated Parts List 28-21-12, Revision 003, dated June 15, 2007. The title page of that document specifies “Revision 002.” The correct revision level is “Revision 003.”

Relevant Service Information

EADS CASA has issued the following service bulletins:

• EADS CASA Service Bulletin SB-235-21-18, dated August 2, 2007;

• EADS CASA Service Bulletin SB-235-24-20, dated August 2, 2007; and

• EADS CASA Service Bulletin SB-235-28-18, dated August 2, 2007.

EADS CASA has also issued CN-235/C-295 Technical Document, DT-0-C00-05001, Issue D, dated October 2008. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 8 products of U.S. registry.

The actions that are required by AD 2008-09-22 and retained in this proposed AD take about 1 work-hour per product, at an average labor rate of $85 per work hour. Based on these figures, the estimated cost of the currently required actions is $85 per product.

We estimate that it would take about 90 work-hours per product, depending on airplane configuration, to comply with the new basic requirements of this proposed AD. The average labor rate is $85 per work-hour. Based on these figures, we estimate the cost of the proposed AD on U.S. operators to be $61,200, or $7,650 per product, depending on airplane configuration.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15503 (73 FR 23939, May 1, 2008) and adding the following new AD:

EADS CASA (Type Certificate Previously Held by Construcciones Aeronauticas, S.A.): Docket No. FAA-2010-0640; Directorate Identifier 2009-NM-142-AD.

Comments Due Date

(a) We must receive comments by August 13, 2010.

Affected ADs

(b) This AD supersedes AD 2008-09-22, Amendment 39-15503.

Applicability

(c) This AD applies to EADS CASA (Type Certificate previously held by Construcciones Aeronauticas, S.A.) Model CN-235, CN-235-100, CN-235-200, and CN-235-300 airplanes, and Model C-295 airplanes, all serial numbers; certificated in any category.

Subject

(d) Air Transport Association (ATA) of America Code 28: Fuel.

Reason

(e) The mandatory continuing airworthiness information (MCAI) states:

“Prompted by [an] accident * * *, the FAA published SFAR 88 (Special Federal Aviation Regulation 88). Subsequently, the Joint Aviation Authorities (JAA) recommended the application of a similar regulation to the National Aviation Authorities (NAA) of its member countries.

“Under this regulation, all holders of type certificates for passenger transport aeroplanes with either a passenger capacity of 30 or more, or a payload capacity of 3 402 kg (7 500 lbs) or more, which have received their certification since 01 January 1958, are required to conduct a design review against explosion risks.

“In August 2005, EASA [European Aviation Safety Agency] published a policy statement on the process for developing instructions for maintenance and inspection of Fuel Tank System ignition source prevention (EASA D 2005/CPRO), that also included the EASA expectations with regard to compliance times of the corrective actions on the unsafe and the not unsafe part of the harmonised design review results.

“Fuel Airworthiness Limitations arising from the required systems safety analysis are items that have been shown to have failure mode(s) associated with an `unsafe condition' as defined in the FAA memo 2003-112-15 `SFAR 88—Mandatory Action Decision Criteria'. These are identified in Failure Conditions for which an unacceptable probability of ignition risk could exist if specific tasks and/or practices are not performed in accordance with the corrective action(s) developed by the TC [type certificate] holder.

“To address these potential unsafe conditions, EASA issued AD 2007-0007, mandating the Fuel System Airworthiness Limitations, comprising maintenance and inspection tasks and Critical Design Configuration Control Limitations (CDCCL) that were, at that moment, defined in issue C of EADSCASA document DT-0-C00-05001. That document has now been revised and updated to issue D.

“For the reasons described above, this EASA AD retains the requirements of AD 2007-0007, which is superseded [and corresponds to FAA AD 2008-09-22], and requires the implementation of the revised Fuel Airworthiness Limitations contained in issue D of EADS-CASA document DT-0-C00-05001 and accomplishment of related modifications.”

The required actions are retaining the limitations for fuel tank systems, adding thermal insulation to the air conditional compression system, applying double bonding connection on fuel tubes, and modifying the separation between the center wing electrical harness and fuel tubes. The application of double bonding connections on fuel tubes includes doing general visual inspections for damage of the inside of the fuel tanks, and corrective actions if necessary. The corrective actions include contacting EADS CASA for repair instructions and doing the repair. You may obtain further information by examining the MCAI in the AD docket.

Compliance

(f) You are responsible for having the actions required by this AD performed within the compliance times specified, unless the actions have already been done.

Restatement of Requirements of AD 2008-09-22, With Revised Paragraph Formatting

(g) Do the following actions.

(1) Within 6 months after June 5, 2008 (the effective date of AD 2008-09-22), do the revisions specified in (g)(1)(i) or (g)(1)(ii) of this AD.

(i) Revise the Airworthiness Limitations section of the Instructions for Continued Airworthiness to include the CDCCL data using a method approved in accordance with the procedures specified in paragraph (i)(1) of this AD.

(ii) Revise the Airworthiness Limitations section of the Instructions for Continued Airworthiness by incorporating the information in EADS CASA CN-235/C-295 Technical Document DT-0-C00-05001, Issue C, dated October 2006. Where this EADS CASA technical document refers to an EADS CASA component maintenance manual (CMM), use the applicable CMM specified in Table 1 of this AD.

Table 1—Applicable CMMs
CDCCL No. | CDCCL description | CMM | Revision | Date
8 | Fuel pumps | Parker Hannifin CMM with Illustrated Parts List 28-22-12 (replaces CM 1C12-34) | 5 | January 10, 2008.
8 | Centrifugal fuel boost pump | Parker Hannifin CMM with Illustrated Parts List CM 1C7-20, -21 (replaces CMM RR54170) | B | November 20, 2006.
9 | Low level sensor | EADS CASA CMM with Illustrated Parts List 28-21-12 | 003 | June 15, 2007.
10 | 3/4″ shutoff motorized valve | Eaton CMM with Illustrated Parts List 28-20-81 | 2 | June 20, 2006.
11 | 2″ motorized spherical plug pressure relief valve | Eaton CMM with Illustrated Parts List 28-0-63 | 3 | June 20, 2006.
12 | Signal conditioner | Gull CMM with Illustrated Parts List 28-40-61 | 3 | June 28, 2007.
13 | Fuel control unit | Zodiac Intertechnique CMM with Illustrated Parts List 28-41-05 | 3 | September 25, 2006.

Note 1: Table 1 of this AD does not include CMM 28-22-15, CE400150-E01, and C 17MQ0020-005SE, which are listed in EADS CASA CN-235/C-295 Technical Document DT-0-C00-05001, Issue C, dated October 2006. These CMM document numbers no longer apply. In addition, CMM document number 28-21-81 in EADS CASA CN-235/C-295 Technical Document DT-0-C00-05001, Issue C, dated October 2006, should be CMM document number 28-20-81.

(2) After accomplishing the actions specified in paragraph (g)(1) of this AD, no alternative CDCCLs may be used unless the CDCCLs are approved as an alternative method of compliance (AMOC) in accordance with the procedures specified in paragraph (i)(1) of this AD.

New Requirements of This AD

(h) Do the following actions.

(1) Within 3 months after the effective date of this AD, revise the Airworthiness Limitations section of the Instructions for Continued Airworthiness by incorporating the information in EADS CASA CN-235/C-295 Technical Document DT-0-C00-05001, Issue D, dated October 2008. Where this EADS CASA technical document refers to an EADS CASA CMM, use the applicable CMM specified in Table 1 of this AD. Doing this revision terminates the requirements specified in paragraph (g) of this AD.

Note 2: Notwithstanding any other maintenance or operational requirements, components that have been identified as airworthy or installed on the affected airplanes before the revision of the fuel airworthiness limitations, as required by paragraphs (g) and (h) of this AD, do not need to be reworked in accordance with the CDCCLs. However, once the fuel airworthiness limitations have been revised, future maintenance actions on these components must be done in accordance with the CDCCLs.

(2) After accomplishing the actions specified in paragraph (h)(1) of this AD, no alternative CDCCLs may be used unless the CDCCLs are approved as an AMOC in accordance with the procedures specified in paragraph (i)(1) of this AD.

(3) Within 6 months after the effective date of this AD, accomplish the modifications specified in paragraphs (h)(3)(i), (h)(3)(ii), and (h)(3)(iii) of this AD, as applicable.

(i) For Model CN-235, CN-235-200, and CN-235-300 airplanes having serial numbers identified in EADS CASA Service Bulletin SB-235-21-18, dated August 2, 2007: Add thermal insulation to the air condition compression system, in accordance with the Accomplishment Instructions of EADS CASA Service Bulletin SB-235-21-18, dated August 2, 2007.

(ii) For Model CN-235, CN-235-200, and CN-235-300 airplanes having serial numbers identified in EADS CASA Service Bulletin SB-235-28-18, dated August 2, 2007: Apply double bonding connections on fuel tubes and do general visual inspections for damage inside of the tank, in accordance with the Accomplishment Instructions of EADS CASA Service Bulletin SB-235-28-18, dated August 2, 2007. If any damage is found inside the tank, before further flight, contact EADS CASA for repair instructions and do the repair.

(iii) For Model CN-235, CN-235-200, and CN-235-300 airplanes having serial numbers identified in EADS CASA Service Bulletin SB-235-24-20, dated August 2, 2007: Modify the separation between the center wing electrical harnesses and fuel tubes, in accordance with the Accomplishment Instructions of EADS CASA Service Bulletin SB-235-24-20, dated August 2, 2007.

FAA AD Differences

Note 3: This AD differs from the MCAI and/or service information as follows:

(1) The European Aviation Safety Agency (EASA) AD 2009-0146, dated July 3, 2009, inadvertently refers to the incorrect service bulletins. For applying double bonding connections on fuel tubes and doing general visual inspections for damage inside the tank, we refer to EADS CASA Service Bulletin SB-235-28-18, dated August 2, 2007. For modifying the separation between the center wing electrical harnesses and fuel tubes, we refer to EADS CASA Service Bulletin SB-235-24-20, dated August 2, 2007.

(2) The EASA AD 2009-0146, dated July 3, 2009; and EADS CASA Service Bulletin SB-235-28-18, dated August 2, 2007; do not specify corrective actions if any damage is found inside the tank. If any damage is found inside the tank, this AD requires contacting EADS CASA for repair instructions and doing the repair.

Other FAA AD Provisions

(i) The following provisions also apply to this AD:

(1) Alternative Methods of Compliance (AMOCs): The Manager, International Branch, ANM-116, FAA, has the authority to approve AMOCs for this AD, if requested using the procedures found in 14 CFR 39.19. Send information to Attn: Shahram Daneshmandi, Aerospace Engineer, International Branch, ANM-116, Transport Airplane Directorate, FAA, 1601 Lind Avenue, SW., Renton, Washington 98057-3356; telephone (425) 227-1112; fax (425) 227-1149.

Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(j) Refer to MCAI EASA Airworthiness Directive 2009-0146, dated July 3, 2009, the CMMs identified in Table 1 of this AD, and the service information identified in Table 2 of this AD, for related information.

Table 2—Service Information
Document | Issue | Date
EADS CASA Service Bulletin SB-235-21-18 | Original | August 2, 2007.
EADS CASA Service Bulletin SB-235-24-20 | Original | August 2, 2007.
EADS CASA Service Bulletin SB-235-28-18 | Original | August 2, 2007.
EADS CASA CN-235/C-295 Technical Document DT-0-C00-05001 | Issue C | October 2006.
EADS CASA CN-235/C295 Technical Document, DT-0-C00-05001 | Issue D | October 2008.

Issued in Renton, Washington, on June 21, 2010.
Ali Bahrami,
Manager, Transport Airplane Directorate, Aircraft Certification Service.

[FR Doc. 2010-15708 Filed 6-28-10; 8:45 am]

BILLING CODE 4910-13-P